DEPARTMENT OF HEALTH AND HUMAN SERVICES

National Institutes of Health

Center for Scientific Review; Amended Notice of Meeting

Notice is hereby given of a change in the meeting of the Center for Scientific Review Special Emphasis Panel, June 11, 2021, 02:30 p.m. to June 11, 2021, 06:00 p.m., National Institutes of Health, Rockledge II, 6701 Rockledge Drive, Bethesda, MD 20892 which was published in the Federal Register on May 18, 2021, 86 FR 26928.

The CSR Special Emphasis Panel; RFA-RM-20-017: Harnessing Data Science for Health Discovery and Innovation in Africa—Ethical, Legal and Social Implications Research meeting is being amended to change the end time from 6:00 p.m. to 8:00 p.m. The meeting is closed to the public.

Dated: May 26, 2021.
Miguelina Perez,
Program Analyst, Office of Federal Advisory Committee Policy.

[FR Doc. 2021-11520 Filed 6-1-21; 8:45 am]

BILLING CODE 4140-01-P